DEPARTMENT OF COMMERCE

International Trade Administration

[A-834-806]

Postponement of Final Determination for Antidumping Duty Investigation: Certain Hot-Rolled Carbon Steel Flat Products From Kazakhstan

AGENCY: Import Administration, International Trade Administration, Department of Commerce.

ACTION: Notice of extension of time limit for final determination in the antidumping duty investigation of certain hot-rolled carbon steel flat products from Kazakhstan.

SUMMARY: The Department of Commerce (“Department”) is extending the time limit for the final determination in the antidumping duty investigation of certain hot-rolled carbon steel flat products from Kazakhstan.

EFFECTIVE DATE: June 1, 2001.

FOR FURTHER INFORMATION CONTACT: Juanita H. Chen at 202-482-0409, or Rick Johnson at 202-482-3818, Import Administration, International Trade Administration, U.S. Department of Commerce, 1401 Constitution Avenue, NW., Washington, DC 20230.

Applicable Statute and Regulations

Unless otherwise indicated, all citations to the Tariff Act of 1930, as amended (“Act”), are references to the provisions effective January 1, 1995, the effective date of the amendments made to the Act by the Uruguay Round Agreements Act (“URAA”). In addition, unless otherwise indicated, all citations to the Department's regulations are to the regulations codified at 19 C.F.R. part 351 (2000).

Postponement of Final Determination and Extension of Provisional Measures

On May 3, 2001, the affirmative preliminary determination was published for the investigation of certain hot-rolled carbon steel flat products from Kazakhstan. See Notice of Preliminary Determination of Sales at Less Than Fair Value: Certain Hot-Rolled Carbon Steel Flat Products from Kazakhstan, 66 FR 22168 (May 3, 2001). Pursuant to section 735(a)(2) of the Act and section 351.210(b)(2)(ii) of the Department's regulations, on April 27, 2001, respondent OJSC Ispat Karmet (“Ispat Karmet”) requested that the Department extend the final determination for the full sixty days as permitted by the statute and regulations. On May 1, 2001, Ispat Karmet submitted a supplemental request that the Department extend provisional measures (i.e., suspension of liquidation) from a four month period to a period not to exceed six months, pursuant to 19 C.F.R. 351.210(e)(2).

Section 735(a)(2) of the Act provides that a final determination may be postponed until not later than 135 days after the date of the publication of the preliminary determination if, in the event of an affirmative determination, a request for such postponement is made by exporters who account for a significant proportion of exports of the subject merchandise, or in the event of a negative preliminary determination, a request for such postponement is made by petitioner. The Department's regulations, at 19 C.F.R. 351.210(e)(2), require that requests by respondents for postponement of a final determination be accompanied by a request for extension of provisional measures from a four month period to not more than six months.

In accordance with 19 C.F.R. 351.210(b)(2)(ii), because (1) our preliminary determination is affirmative, (2) the respondent requesting a postponement accounts for a significant proportion of exports of the subject merchandise, and (3) no compelling reasons for denial exist, we are granting Ispat Karmet's request and are postponing the final determination to September 15, 2001, which is not later than 135 days after the publication of the preliminary determination in the Federal Register. Suspension of liquidation will be extended accordingly.

This notice of postponement is published pursuant to 19 C.F.R. 351.210(g).

Dated: May 24, 2001.
Faryar Shirzad,
Assistant Secretary for Import Administration.

[FR Doc. 01-13828 Filed 5-31-01; 8:45 am]

BILLING CODE 3510-DS-P